SECURITIES AND EXCHANGE COMMISSION

[File No. 500-1]

In the Matter of: Fortel, Inc., Now Known as Envit Capital Group, Inc.; Order of Suspension of Trading

May 12, 2009.

It appears to the Securities and Exchange Commission that there is a lack of current and accurate information concerning the securities of Fortel, Inc., now known as Envit Capital Group, Inc., because it has not filed any periodic reports since the period ended June 30, 2002.

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 12, 2009, through 11:59 p.m. EDT on May 26, 2009.

By the Commission.
Elizabeth M. Murphy,
Secretary.

[FR Doc. E9-11393 Filed 5-12-09; 4:15 pm]

BILLING CODE 8010-01-P